DEPARTMENT OF TRANSPORTATION

Maritime Administration

Meeting Notice (Closed)—Marine Transportation System National Advisory Council

AGENCY: Maritime Administration, Department of Transportation.

ACTION: Notice of closed advisory council meeting.

SUMMARY: The U.S. Department of Transportation (DOT) and Maritime Administration (MARAD) announce that the Marine Transportation System National Advisory Council (MTSNAC) will hold a closed door meeting on August 14, 2014. After a review of all comments received from the interested public during its two national maritime symposiums, MARAD is now planning to provide the council a compilation of select concepts for further consideration. In January 2014, MARAD held a three-day National Maritime Strategy Symposium to discuss issues facing U.S.-flag vessels. The purpose of this initial public meeting was to generate ideas to improve, strengthen, and sustain the cargo opportunities and sealift capacity of the U.S.-flagged fleet engaged in international commercial trade. A second symposium was held in May which focused on domestic shipping, shipbuilding, ports and the needs of maritime stakeholders on the inland waterways, Great Lakes, gulf and coastwise trade. The August 14 meeting will be held to obtain the opinions and views of council members with respect to the value and impact of certain strategy options gathered through MARAD outreach. The input MARAD expects to receive from the council will be part of its on-going deliberations as it prepares a long term maritime strategy.

DATES: The MTSNAC closed meeting will take place August 14, 2014, from 2:00 p.m. to 4:00 p.m. via teleconference.

FOR FURTHER INFORMATION CONTACT: Richard Lolich, (202) 366-0704; Maritime Administration, MAR-540, Room W21-310, 1200 New Jersey Ave. SE., Washington, DC 20590-0001; richard.lolich@dot.gov.

SUPPLEMENTARY INFORMATION: The Marine Transportation System National Advisory Council (MTSNAC) is a chartered, non-federal body that responds to requests from the Maritime Administrator to identify and seek solutions, provide advice and make recommendations on certain maritime matters. The MTSNAC is comprised of 29 leaders from commercial transportation firms, port and water stakeholders, labor, and Federal, state and local public entities. The Council provides an industry stakeholder and academic prospective to Departmental policies that affect efficient and environmentally friendly waterborne freight and passenger movements.

This meeting notice is being given pursuant to section 10 of the Federal Advisory Committee Act of 1972. A determination, as required by section 10(d) of the Federal Advisory Committee Act, has been made that this meeting may be closed to the public in accordance with subsection (c)(3) of section 552b, title 5, the Government in Sunshine Act of 1976. In this instance, the (c)(3) exemption applies because matters to be considered by the advisory committee concern pre-decisional and deliberative internal information. The policy purposes for withholding this sort of information from the public are 1. To encourage open, frank discussions on matters of policy between subordinates and superiors; 2. To protect against premature disclosure of proposed policies before they are actually adopted; and 3. To protect against public confusion that might result from disclosure of reasons and rationales that are not in fact ultimately relied on by MARAD. Accordingly, the meeting will not be open to the public.

Authority: 46 U.S.C. 51312; 5 U.S.C. app. 552b; 41 CFR parts 102-3.140 through 102-3.165)

* * * * *

Dated: July 22, 2014.
By Order of the Maritime Administrator.
Julie P. Agarwal,
Secretary, Maritime Administration.

[FR Doc. 2014-17611 Filed 7-24-14; 8:45 am]

BILLING CODE 4910-81-P